DEPARTMENT OF EDUCATION

Office of Special Education and Rehabilitative Services; Personnel Development To Improve Services and Results for Children With Disabilities (CFDA No. 84.325D)

AGENCY: Department of Education.

ACTION: Correction; notice inviting applications for new awards for fiscal year (FY) 2008.

SUMMARY: On November 27, 2007, we published in the Federal Register (72 FR 66143) a notice inviting applications for new awards for FY 2008 under certain Personnel Development to Improve Services and Results for Children with Disabilities competitions authorized under the Individuals with Disabilities Education Act.

In the chart on page 66150, ninth column, the “Project Period” for the 84.325D Preparation of Leadership Personnel competition is incorrectly listed as “up to 60 months”. The project period for this competition is corrected to read “up to 48 months”.

FOR FURTHER INFORMATION CONTACT: Debra Sturdivant, U.S. Department of Education, 400 Maryland Avenue, SW., room 4104, Potomac Center Plaza, Washington, DC 20202-2600. Telephone: (202) 245-7539.

If you use a telecommunications device for the deaf (TDD), you may call the Federal Relay Service (FRS) at 1-800-877-8339.

Individuals with disabilities can obtain this document in an alternative format (e.g., Braille, large print, audiotape, or computer diskette) on request to the contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: December 4, 2007.
Raymond Simon,
Acting Assistant Secretary for Special Education and Rehabilitative Services.

[FR Doc. E7-23888 Filed 12-7-07; 8:45 am]

BILLING CODE 4000-01-P